DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Surfclam and Ocean Quahog Individual Transfer Quota (ITQ) Administration.

OMB Control Number: 0648-0240.

Form Number(s): None.

Type of Request: Regular submission.

Burden Hours: 45.

Number of Respondents: 205.

Average Hours Per Response: Individual Transfer Quota (ITQ) requests, 5 minutes; and applications to shuck surfclams at sea, 30 minutes.

Needs and Uses: Federally-permitted fishing vessels participating in the Atlantic surfclam or ocean quahog ITQ fishery in the Northeast Region of the U.S. are subject to certain information collection requirements. These requirements allow NMFS to process requests for the transfer of surfclam or ocean quahog quota shares or authorization to shuck surfclams or ocean quahogs at sea. The regulations governing the Atlantic surfclam and ocean quahog fishery including the collections of information are found in 50 CFR part 648, subpart E.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 6, 2008.
Gwellnar Banks,
Management Analyst, Office of the Chief Information Officer.

[FR Doc. E8-26873 Filed 11-12-08; 8:45 am]

BILLING CODE 3510-22-P